DEPARTMENT OF THE INTERIOR

Bureau of Land Management

[UT-050-1430-ES; UTU-77200, UTU-79470]

Notice of Realty Action, Recreation and Public Purposes Act (R&PP Classifications, Utah

AGENCY: Bureau of Land Management, Interior.

ACTION: Notice of realty action.

SUMMARY: The following public lands in Sevier County near the community of Glenwood, Utah have been examined and found suitable for classification for lease or conveyance to the Town of Glenwood for cemetery purposes under the provisions of the Recreation and Public Purposes Act, as amended (43 U.S.C. 869 et eq.):

Salt Lake Meridian

T.23 S., R.2 W.

Sec.23, SE¼NW¼SW¼SE¼, NE¼SW¼SW¼SE¼, SW¼SW¼SW¼SE¼, and SE¼SW¼SW¼SE¼.

containing 10.00 acres more or less.

The following public lands in a Piute County near the community of Marysvale, Utah has been examined and found suitable for classification for lease or conveyance to the Town of Marysvale for city park purposes under the provisions of the Recreation and Public Purposes Act, as amended (43 U.S.C. 869 et seq.):

Salt Lake Meridian

T. 27 S., R. 4 W.

Sec. 35, lot 3.

containing 5.15 acres more or less.

The existing amended Mountain Valley Management Framework Plan (MFP) allows for these types of actions under the Recreation and Public Purposes Act. The proposed actions are in conformance with the land use plan. Because of the resource values, public values and objectives involved, the public interest may well be served by making these public lands available under the R&PP Act. An environmental assessment will be prepared by an interdisciplinary team to analyze the impacts of these proposals and alternatives.

The lease or conveyance of the lands, when issued will be subject to the following terms, conditions and reservations:

1. Provisions of the Recreation and Public Purposes Act and all applicable regulations of the Secretary of the Interior.

2. A right-of-way for ditches and canals constructed by the authority of the United States.

3. All minerals shall be reserved to the United States, together with the right to prospect for, mine and remove the minerals.

4. Any other reservations that the authorized officer determines appropriate to ensure public access and proper management of Federal lands and interests therein.

Detailed information concerning this action is available at the office of the Bureau of Land Management, 150 East 900 North, Richfield, Utah, 84701.

On May 20, 2003 the public lands described above are segregated from all other forms of appropriation under the public land laws, including the general mining laws, the mineral leasing laws and the Materials Act of 1947, except for lease or conveyance under the Recreation and Public Purposes Act.

DATES: Interested persons may submit comments regarding the proposed classifications and lease/conveyance of the lands to the Bureau of Land Management Richfield Field Manager, Richfield Field Office, 150 East 900 North, Richfield, Utah 84701 until July 7, 2003.

Classification Comments: Interested parties may submit comments involving the suitability of the public lands for the proposed uses. Comments on the classifications are restricted to whether the lands are physically suited for the proposed uses, whether the uses will maximize the future use or uses of the lands, whether the uses are consistent with local planning and zoning, or if the uses are consistent with State and Federal programs.

Application Comments: Interested parties may submit comments regarding the specific uses proposed in the applications and plan of development, whether the BLM followed proper administrative procedures in reaching the decision, or any other factor not directly related to the suitability of the land for purposes proposed. Comments, including names and addresses of respondents will be available for public review at the BLM Richfield Field Office and may be published as part of the Environmental Assessment and other related documents. Individual respondents may request confidentiality. If you wish to withhold your name or street address from public review and disclosure under the Freedom of Information Act, you must state this prominently at the beginning of your written request. Such requests will be honored to the extent allowed by law. All submissions from organizations and businesses, and from individuals identifying themselves as representatives or officials of organizations or businesses, will be made available for public inspection in their entity.

Any adverse comments will be reviewed by the State Director. In the absence of any adverse comments, the classification will become effective on July 21, 2003.

FOR FURTHER INFORMATION CONTACT: Additional information concerning the R&PP leases or conveyances may be obtained from the Richfield Field Office at the above address. Telephone call may be directed to Kay Erickson at (435) 896-1500.

Dated: March 31, 2003.
Aden Seidlitz,
Field Manager.

[FR Doc. 03-12518 Filed 5-19-03; 8:45 am]

BILLING CODE 4310-$$-P